SOCIAL SECURITY ADMINISTRATION

[Docket No. SSA-2007-0006]

Early Identification and Intervention Demonstration Request for Applications; Program: Cooperative Agreements for Early Identification and Intervention Demonstrations (EIID); Program Announcement No. SSA-OPDR-07-01; Cancellation of Notice

AGENCY: Social Security Administration.

ACTION: Cancellation of notice.

SUMMARY: This notice cancels a notice that the Social Security Administration published in the Federal Register on January 29, 2007, requesting applications for cooperative agreement funding to support projects that will design and implement effective, replicable, and sustainable models which will increase the number of children (birth to age 5) who receive developmental screening and improve the early identification of children with developmental delays and/or disabilities.

DATES: This notice is effective July 3, 2007.

FOR FURTHER INFORMATION CONTACT: Leola Brooks, Office of Program Development and Research, 400 Virginia Avenue, SW., Suite 700, Washington, DC 20024, leola.brooks@ssa.gov, phone: 202-358-6294. When sending a question, use the program announcement number (SSA-OPDR-07-01) and the date of this announcement.

SUPPLEMENTARY INFORMATION: In the Federal Register notice of January 29, 2007 (72 FR 4049), we announced a funding opportunity, as follows: Early Identification and Intervention Demonstration Request for Applications; Program: Cooperative Agreements for Early Identification and Intervention Demonstrations (EIID); Program Announcement No. SSA-OPDR-07-01. We are canceling that announcement now because the goals of the cooperative agreement to design and implement developmental screening models and improve the early identification of children with delays and/or disabilities are no longer feasible due to Agency budget limitations.

Dated: June 27, 2007.
Manuel J. Vaz,
Acting Deputy Commissioner for Disability and Income Security Programs.

[FR Doc. E7-12773 Filed 7-2-07; 8:45 am]

BILLING CODE 4191-02-P